DEPARTMENT OF HEALTH AND HUMAN SERVICES

Centers for Disease Control and Prevention

Reorganization of the National Center for State, Tribal, Local, and Territorial Public Health Infrastructure and Workforce

AGENCY: Centers for Disease Control and Prevention (CDC), the Department of Health and Human Services (HHS).

ACTION: Notice.

SUMMARY: CDC has modified its structure. This notice announces the reorganization of the State, Tribal, Local, and Territorial Public Health Infrastructure and Workforce, henceforth referred to as the Public Health Infrastructure Center (PHIC). PHIC reorganized to enhance and enable coordination for partners collectively working to bolster the Nation's public health infrastructure.

DATES: This reorganization was approved by the Director of CDC on June 28, 2023.

FOR FURTHER INFORMATION CONTACT: D'Artonya Graham, Office of the Chief Operating Officer, Office of the Director, Centers for Disease Control and Prevention, 1600 Clifton Road NE, MS TW-2, Atlanta, GA 30329. Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the National Center for State, Tribal, Local, and Territorial Public Health Infrastructure and Workforce, Centers for Disease Control and Prevention. Specifically, the changes are as follows:

I. Under Part C, Section C-B, Organization and Functions, insert the following:

• National Center for State, Tribal, Local, and Territorial Public Health Infrastructure and Workforce (CH)

• Office of the Director (CH1)

• Office of Tribal Affairs and Strategic Alliances (CH12)

• Office of Rural Health (CH13)

• Division of Jurisdictional Support (CHB)

• Office of the Director (CHB1)

• Capacity Building and Strategic Resource Management Branch (CHBB)

• Public Health Infrastructure Capacity Building and Implementation Branch (CHBC)

• Program Services and Innovation Branch (CHBD)

• Division of Partnership Support (CHC)

• Office of the Director (CHC1)

• Partnership Resources Management Branch (CHCB)

• Partnerships and Performance Improvement Branch (CHCC)

• Division of Workforce Development (CHD)

• Office of the Director (CHD1)

• Education and Training Services Branch (CHDB)

• Epidemiology and Laboratory Workforce Branch (CHDC)

• Field Services Workforce Branch (CHDD)

• Public Health Workforce Branch (CHDE

II. Under Part C, Section C-B, Organization and Functions, add the following functional statements:

National Center for State, Tribal, Local, and Territorial Public Health Infrastructure and Workforce (CH). The National Center for State, Tribal, Local, and Territorial Public Health Infrastructure and Workforce, henceforth referred to as the Public Health Infrastructure Center (PHIC), strengthens the Nation's public health infrastructure by providing underlying systems, processes, and expertise across critical cross-cutting functional areas and bolstering the agency's core capabilities. In carrying out its mission, PHIC: (1) engages and coordinates relationships with jurisdictions and CDC's public health partners to provide enterprise management of programs that build and maintain the Nation's public health infrastructure (PHI); (2) enhances experiences for funded partners and state, tribal, local, and territorial (STLT) jurisdictions; (3) develops strategic goals and objectives, provides leadership, scientific oversight, and guidance for PHI; (4) proactively engages and collaborates with Centers, Institute, and Offices (CIOs) across the agency to support jurisdictions, external partnerships, and CDC's internal workforce; (5) streamlines and coordinates cross-cutting funding mechanisms in support of PHI; (6) provides support through specific workforce development programming, guidance, technical assistance (TA), and funding for jurisdictions; (7) invests in internal workforce development programs that directly reinforce CDC's capacity to support jurisdictions; (8) identifies and supports implementation of cross-cutting evidence-based approaches to improve public health agency and system performance; (9) establishes and maintains effective strategic relationships, partnerships, and alliances with organizational elements of the public health system; and (10) leads evaluation and reporting activities on the effectiveness of partnership engagement and performance of funding mechanisms.

Office of the Director (CH1). (1) provides the overarching vision and strategic direction for PHIC; (2) collaborates and consults with other Centers, working groups, state and local health departments, other Federal agencies, and other partners, to accomplish the mission of the center; (3) manages, directs, and coordinates the policy, strategy, operations, and fiscal activities of PHIC; (4) works with CDC leadership to ensure spend plans, budget planning, and budget execution are in line with the overall public health infrastructure strategies and priorities; (5) provides and coordinates Center-wide administrative, management, and support services in the areas of fiscal management, personnel, travel, procurement, facility management, and other administrative services; (6) manages the coordination of workforce development and succession planning activities, and provides human capital management, planning, and training consultation services; (7) co-develops execution strategies for PHIC with the division directors; (8) ensures that the PHIC strategy is executed by the divisions and aligned with overall CDC goals; (9) evaluates the strategies, focus, and prioritization of the division research, program, and corresponding budget activities; (10) defines goals and objectives for policy formation, scientific oversight, and guidance in program planning and development, ensuring that policy development is consistent and appropriate; (11) reviews, prepares, coordinates, and develops congressional testimony and briefing materials; (12) establishes and implements a communications strategy in support of PHIC overarching goals and priorities, ensuring that communication distributed by the Center is timely, accurate, clear and relevant to intended audiences; (13) leads infusion of health equity principles into the planning, implementation, and evaluation of activities and engagement in all parts of PHIC; (14) provides oversight on scientific clearance and ensures quality of scientific work through setting a scientific agenda; (15) represents PHIC and at times CDC at professional and scientific meetings, within and outside CDC; (16) sets the strategy for funding through grants and cooperative agreements (CoAgs) and track accountability measures across PHIC and CDC while reducing administrative burden to recipients; (17) promotes and advances Diversity, Equity, Inclusion, Accessibility, and Belonging; and (18) establishes a menu of common measures and indicators for evaluation of PHI-related programs to measure success and gaps for building foundational capabilities.

Office of Tribal Affairs and Strategic Alliances (CH12). (1) serves as CDC's principal point of contact for tribes and tribal serving organizations; (2) provides CDC-wide leadership for CDCs tribal related partnerships and activities; (3) affirms the government-to-government relationship between CDC and American Indian/Alaska Native (AI/AN) tribes; (4) connects tribal nations and tribal-serving organizations to CDC programs by advancing connections, providing expertise, and increasing resources to improve cross-cutting tribal public health infrastructure helping to ensure AI/AN communities receive public health services that keep them safe and healthy; (5) serves as CDC's lead office and liaison on tribal public health issues and policies; (6) collaborates and coordinates with Office of Science/HHS and other agency tribal liaisons on HHS-wide tribal activities; (7) develops and disseminates tribal public health strategies, policies, programs, and systems improvements; (8) establishes partnerships and provides subject matter expertise and technical assistance to CDC programs and external partners; (9) enhances government-to-government relationships through policy and consultation with tribal nations; and (10) supports implementation of culturally responsive and traditional practices through evidence- and practice-based models.

Office of Rural Health (CH13). (1) provides rural public health strategic direction for CDC; (2) coordinates rural-focused public health activities across CDC with a special emphasis on identifying and addressing rural health disparities; (3) builds CDC capacity to address rurality in scientific, programmatic, policy, and communications activities; (4) identifies rural public health best practices, lessons learned, innovative, and successful programs for dissemination; (5) engages with governmental and non-governmental partners and rural-serving organizations to improve rural public health services and infrastructure; (6) provides technical assistance to CDC programs to ensure integration of rural considerations into CDC grants, CoAgs, and contracts; and (7) works with CDC workforce development initiatives to expand the pool of practitioners with rural public health training and expertise.

Division of Jurisdictional Support (CHB). The Division of Jurisdictional Support (DJS) ensures coordinated support so public health agencies at all levels across the United States have the necessary infrastructure to deliver timely public health services. The Division will support STLT and freely associated state health department jurisdictions to build and maintain their public health infrastructure by managing and providing large non-categorial grants and CoAgs, TA, and excellent customer service. The division will: (1) improve interagency coordination of non-categorial funding mechanisms focused on the Foundational Public Health Services; (2) reduce administrative barriers and improve customer service; and (3) streamline and enhance programmatic reporting.

Office of the Director (CHB1). (1) develops an efficient process for initiating, awarding, and managing non-categorial public health infrastructure funding to STLT jurisdictional health departments; (2) manages and implements grants management functions (monitoring, compliance, and administration) for CDC's cross-cutting/non-categorial grants and CoAgs; (3) coordinates with relevant cross-agency and public health infrastructure subject matter experts to inform notice of funding opportunity development and award processing; (4) provides TA specific to the congressional intent of the division grants and CoAgs assigned to DJS; (5) oversees and manages DJS clearance process for scientific, technical, and programmatic documents; (6) manages DJS communication activities, including communication product development, promotion and dissemination strategies, media relations coordination, and DJS websites; (7) reviews, prepares, coordinates, and develops congressional testimony and briefing materials; (8) coordinates DJS budget formulation/negotiation related to program initiatives and goals management; (9) plans, coordinates, and provides administrative management support, advice, and guidance to DJS in the areas of fiscal management, procurement, property management, personnel, travel, and other administrative services; and (10) provides fiscal management and stewardship of grants, contracts, and CoAgs; and materiel management, and interagency agreements.

Capacity Building & Strategic Resource Management Branch (CHBB). (1) complies with congressional requirements for reporting and performance measures; (2) interacts with grantees and recipients to support basic functions of the grants or CoAgs managed and overseen by the Branch; (3) provides data analytics for jurisdictional trends and conducts evaluation activities for branch grants and CoAgs; and (4) provides performance management, evaluation, and review of the grantee performance and capacity to enhance the utilization of resources.

Public Health Infrastructure Capacity Building and Implementation Branch (CHBC). (1) complies with congressional requirements for reporting and performance measures; (2) interacts with grantees and recipients to support basic functions of the grants or CoAgs managed and overseen by the Branch; and (3) provides data analytics for jurisdictional trends and conducts evaluation activities to improve program operations and implementation.

Program Services and Innovation Branch (CHBD). (1) complies with congressional requirements for reporting and performance measures; (2) interacts with grantees and recipients to support basic functions of the grants or CoAgs managed and overseen by the Branch; (3) provides data analytics for jurisdictional trends and conducts evaluation activities for branch grants and CoAgs; and (4) promotes continuous improvement of program services by serving as an incubator for new tools and solutions.

Division of Partnership Support (CHC). The Division of Partnership Support (DPS) leverages partnerships to support CDC in developing the capacity of the public health system and STLT territorial departments of health (and ministries) to sustain and strengthen public health foundational, infrastructure, and workforce capabilities. In addition, DPS: (1) provides capacity-building assistance to the field to improve public health performance; and (2) develops capacity through delivery mechanisms that include TA (consultation and services), training (skills building), technology and information transfer, and funding.

Office of the Director (CHC1). (1) provides oversight and guidance of its branches, offices, and units; (2) works closely with divisions and other CIOs to offer support, guidance, collaboration, and expertise on partnership development and improvement; (3) facilitates TA, training, information, funding, and technology transfer for U.S. territories and freely associated states; (4) provides legal TA in STLT jurisdictions; (5) oversees and manages DPS clearance process for scientific, technical, and programmatic documents; (6) manages DPS communication activities, including communication product development, promotion and dissemination strategies, media relations coordination, and DPS websites; (7) reviews, prepares, coordinates, and develops congressional testimony and briefing materials; (8) coordinates DPS budget formulation/negotiation related to program initiatives and goals management; (9) plans, coordinates, and provides administrative management support, advice, and guidance to DPS in the areas of fiscal management, procurement, property management, personnel, travel, and other administrative services; and (10) provides fiscal management and stewardship of grants, contracts, and CoAgs; and materiel management, and interagency agreements.

Partnership Resources Management Branch (CHCB). (1) coordinates CDC-wide funding for regional and national non-governmental public health partner organizations; (2) monitors programmatic activities of funded partner organizations to assure program objectives and key performance indicators are achieved; (3) develops, designs, and deploys TA related to compliance and monitoring for programs and funding mechanisms with STLTs; (4) implements process improvements and lessons learned for partner programs, mechanisms, and relationships; (5) supports and manages partner CoAgs and other mechanisms for fiscal support and monitoring of expenditures; (6) provides leadership in evaluating and improving the performance of funded partnerships; (7) supports and provides oversight for funding mechanisms with academic partner organizations to enhance development of public health and health professionals skilled in improving the health of populations; (8) coordinates the development of Notices of Funding Opportunity, Interim Progress Report Guidance, and Continuation Applications for partner organizations; (9) develops materials to support partners and collaborates in documenting partnership tools and resources; (10) assesses TA needs of recipients and develops strategies to address those needs; (11) complies with Federal requirements for awarding, monitoring, and reporting activities under Federal funding mechanisms; and (12) interacts with grantees, recipients, and Federal staff to provide guidance and support of the grants and CoAgs managed and overseen by the Branch.

Partnerships and Performance Improvement Branch (CHCC). (1) proactively explores, engages, and leverages partnerships with external agencies and organizations to support current and emerging priorities, including emergency response activations, health equity, social determinants of health, and other public health priorities; (2) provides leadership and subject matter expertise on public health practice and performance for CDC, external agencies and organizations, and the field to explore innovations and advance efficiencies and effectiveness of public health programs, services, and business processes; (3) advances the professional development and capabilities of the public health workforce through training and the support of frameworks and tools that are used by STLT public health agencies; (4) promotes practices and foster cross-sector relationships (e.g., healthcare, social services, transportation, housing, behavioral health) to better address equity, the social and structural determinants of health, and population health outcomes; (5) provides support, guidance, and tools within CDC and for use in STLT jurisdictions that strengthen collaborations and leverage partnerships that will improve the public health system; (6) serves as a lead and subject matter expert for CDC support of the national accreditation program for health departments and advance STLT agency readiness to meet national standards and achieve and sustain accreditation; (7) conducts or leverages assessments and uses data to identify opportunities to improve public health systems and public health agency structure, operations, and performance; and (8) develops and disseminates evidence of successful public health agency and system improvement strategies and partnership and collaboration practices

Division of Workforce Development (CHD). The Division of Workforce Development (DWD) aims to improve health outcomes through a diverse, flexible, and highly trained public health workforce. In carrying out its mission, DWD: (1) plans, directs, and manages programs that develop the current and future public health workforce; (2) provides leadership in scientific workforce education and development, including quality assurance, technical consultation, and evaluation; and (3) provides leadership to facilitate or coordinate CDC and partner strategic workforce initiatives to increase the capability of the current workforce, expand pipeline programs to recruit new talent, strengthen systems to support the workforce, and leverage partnerships to maximally achieve goals.

Office of the Director (CHD1). (1) provides executive-level scientific leadership, managerial oversight, and strategic direction for DWD; (2) develops goals and objectives that promote principles of diversity and health equity, and provides leadership, policy formation, scientific oversight, and guidance in scientific education and professional development program planning and development; (3) plans, coordinates, and develops workforce-related research for DWD; (4) ensures adherence and provides training to DWD on CDC and HHS science-related policies; (5) oversees and manages DWD clearance process for scientific, technical, and programmatic documents; (6) manages DWD communication activities, including communication product development, promotion and dissemination strategies, media relations coordination, and DWD websites; (7) responds to Freedom of Information Act requests and controlled correspondence; (8) coordinates all DWD program reviews; (9) reviews, prepares, coordinates, and develops congressional testimony and briefing materials; (10) leads division programmatic evaluation activities, assists DWD programs in establishing performance metrics, and coordinates regular reviews with programs to ascertain status on meeting of the metrics; (11) coordinates DWD budget formulation/negotiation related to program initiatives and goals management; (12) ensures/promotes the use of best practices in scientific education and professional development processes, services, and products; (13) provides leadership and guidance on new developments and national trends for public health workforce education and training; (14) establishes policies and standards for public health education and training activities/initiatives, including but not limited to, competency development, quality assurance, and evaluation, and works collaboratively within DWD and other components of CDC to ensure their implementation and adoption; (15) develops and implements a crosscutting framework for planning, implementing, and evaluating fellowship training programs that provide service to the organizations where fellows are assigned and the communities they serve, and are responsive to the needs of CDC's internal workforce and to the needs of DWD's external partners; (16) manages pilot fellowship programs in early stages of development, as needed; (17) develops and manages unified DWD-wide administrative systems and supports the commitment of resources for application development; (18) plans, coordinates, and provides administrative management support, advice, and guidance to DWD in the areas of fiscal management, procurement, property management, personnel, travel, and other administrative services; (19) provides fiscal management and stewardship of grants, contracts, and CoAgs; and materiel management, and interagency agreements; (20) coordinates management information systems and analyses of data for improved utilization of DWD resources; (21) directs systems analysis and design, programming, and systems training as it relates to implementation of new and existing administrative, management, and executive information systems; (22) provides leadership to coordinate CDC and partner strategic workforce initiatives to increase capability of existing workforce, expand pipeline programs to recruit new talent, and strengthen systems to support the workforce; (23) provides strategic coordination of fellowship recruitment activities, marketing and materials development, and engagement with potential fellowship applicants; and (24) provides equitable opportunities for staff professional development (e.g., training, coaching, and mentoring).

Education and Training Services Branch (CHDB). (1) plans, directs, and manages training design, development, consultation, and delivery, and accredits educational activities for entry level public health professionals and the existing public health workforce; (2) identifies and implements best practices and methods for developing the public health workforce; (3) develops evidence-based policies and standards for public health education and training activities and initiatives, including but not limited to, competency development, quality assurance, and evaluation, and provides TA within DWD and other components of CDC to ensure their implementation and adoption; (4) develops and maintains appropriate liaisons with all fellowship programs in DWD and provides TA to other programs across the agency to ensure the development of rigorous educational programs based on the science of adult learning and instructional technology; (5) facilitates a cross-cutting approach and sharing of educational/evaluation lessons learned and tools across DWD programs, as well as other programs across the agency; (6) provides guidance in planning and implementation of the educational components of complex learning systems and processes to support the public health workforce to ensure data requirements are consistent with the evaluation framework and capture educational outcomes of learners; (7) maintains knowledge of continuing education standards and applies quality assurance practices required to uphold national accreditations; (8) assesses need and demand for additional accreditations to support professional license and certification needs of technical and professional staff within the public health workforce; (9) develops and maintains internal and external partnerships to foster best practices in the design and delivery of educational activities and training; (10) maintains knowledge of information technology and learning standards as they apply to education and training to demonstrate and promote compliance and best practices by CDC programs; (11) applies the principles of instructional systems design and learning theory to design, develop, deliver, and evaluate informational and instructional products; (12) implements and maintains technology-based systems to support learners; (13) curates and promotes quality educational opportunities and resources for learners across public health and healthcare; (14) adapts information systems and processes to reflect current best practices and adherence to accreditation requirements; and (15) provides TA and guidance to learners, course providers, and learning group administrators for DWD learning systems.

Epidemiology and Laboratory Workforce Branch (CHC). (1) plans, directs, and manages CDC-wide training and service programs for teaching and training future public health professionals, and supports the existing workforce; (2) plans, directs, and evaluates middle school and high school student program pipeline activities intended to increase the number of individuals aware of and choosing a career in public health; (3) sponsors complementary activities to train teachers to develop lesson plans of public health significance for middle and high school students; (4) develops and implements a formal plan to evaluate the effectiveness of all fellowship program activities; (5) conducts site visits and maintains liaison with supervisors of Epidemic Intelligence Service Officer (EISOs) and Laboratory Leadership Service (LLS) fellows within CDC and in field assignments; (6) coordinates the assignment and deployment of EISOs and LLS fellows in response to natural disasters, terrorist events, and other large scale public health emergencies; (7) provides TA, consultation, resources, and training for DWD, other components of CDC, and the broader health workforce (e.g., state and local workers), including, but not limited to the development and dissemination of standard curricula, training, and related materials, in epidemiology; (8) maintains liaison with alumni within and outside CDC to assist with training, recruitment, and promotional activities; (9) responds to domestic and international requests for assistance and consultation (e.g., Epi-Aids, Lab-Aids); (10) maintains liaison with other governmental agencies, academic institutions and organizations, state and local health agencies, private health organizations, professional organizations, and other outside groups; (11) assumes an active national and international leadership role in applied epidemiology training; and (12) collaborates, as appropriate, with the CDC Immediate Office of the Director (CDC IOD), other CIOs, and domestic and international agencies to carry out the functions of the branch

Field Services Workforce Branch (CHDD). (1) leads and manages the Public Health Associate Program; (2) coordinates across CDC, STLT health agencies, and other non-governmental public health entities to support the temporary and ongoing placement of CDC field staff within STLT and non-governmental public health agencies; (3) conducts site visits with CDC field staff and maintains liaison with field site placement reporting supervisors; (4) tracks, assesses, and reports on the demographics and needs of CDC field staff; and (5) develops and disseminates information and tools to support CDC field staff.

Public Health Workforce Branch (CHDE). (1) plans, directs, and manages CDC-wide training and service programs for teaching and training future public health professionals, and supports the existing workforce with a focus on data science and leadership; (2) operates and maintains an accredited preventive medicine residency program for physicians in CDC through the Accreditation Council for Graduate Medical Education and a complementary fellowship program for public health veterinarians; (3) establishes and implements overall branch policies, plans, and procedures; (4) develops and implements a formal plan to evaluate the effectiveness of all fellowship program activities, including the completion of program activities by fellows and residents, the quality of field and headquarters assignments, performance of fellows/residents, and effectiveness of educational activities; (5) conducts site visits and maintains liaison with supervisors of fellows/residents within CDC and in field assignments; (6) coordinates the assignment and deployment of fellows/residents in response to natural disasters, terrorist events, and other large scale public health emergencies; (7) provides TA, consultation, resources, and training for DWD, other components of CDC, and the broader health workforce (e.g., state and local workers), including, but not limited to the development and dissemination of standard curricula, training, and related materials, in preventive medicine, informatics, prevention effectiveness and leadership/management and policy; (8) maintains liaison with alumni within and outside CDC to assist with training, recruitment, and promotional activities; (9) responds to domestic and international requests for assistance and consultation (e.g., Info-Aids, Econ-Aids); (10) maintains liaison with other governmental agencies, academic institutions and organizations, state and local health agencies, private health organizations, professional organizations, and other outside groups; (11) assumes an active national and international leadership role in applied public health sciences training in preventive medicine, public health informatics, prevention effectiveness, and leadership and management, and policy; (12) collaborates, as relevant, with the CDC IOD, other CIOs, and domestic and international agencies to carry out the functions of the branch; (13) fosters closer linkages between academia and public health practice; (14) supports and provides oversight for CoAgs with academic partner organizations to enhance development of public health and health professionals skilled in improving the health of populations; (15) provides technical consultation to academic associations regarding improvements in curriculum and experiential learning opportunities; and (16) works with partners in academia, state and local health agencies, public health and health professional organizations to address public health educational needs, including developing population health competencies for academia to improve health professional education (e.g., schools of medicine, nursing, and public health).

III. Under Part C, Section C-B, Organization and Functions, the following organizational unit is deleted in its entirety:

• Center for State, Tribal, Local, and Territorial Support (CBD)

• Office of the Director (CBD1)

• Office of Public Health Law Services (CBD12)

• Office of Tribal Affairs and Strategic Alliances (CBD13)

• Office of Insular Affairs (CBD14)

• Division of Performance Improvement and Field Services (CBDB)

• Office of the Director (CBDB1)

• Performance Development, Evaluation and Training Branch (CBDBB)

• Field Services Branch (CBDBC)

• Division of Program and Partnership Services (CBDC)

• Office of the Director (CBDC1)

• Health Department Program Branch (CBDCB)

• National Partnership Branch (CBDCC)

• Center for Surveillance, Epidemiology, and Laboratory Services (CPN)

• Office of the Director (CPN1)

• Division of Scientific Education and Professional Development (CPND)

• Office of the Director (CPND1)

• Education and Training Services Branch (CPNDB)

• Epidemiology Workforce Branch (CPNDC)

• Population Health Workforce Branch (CPNDD)

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14705 Filed 7-11-23; 8:45 am]

BILLING CODE 4163-18-P